DEPARTMENT OF COMMERCE

International Trade Administration

Yale University; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5:00 P.M. in Room 4211, U.S. Department of Commerce, 14th and Constitution Avenue, N.W., Washington, D.C.

Docket Number: 01-016. Applicant: Yale University, New Haven, CT 06520-8202. Instrument: (2) High Pressure Presses, Models TRY10ES and Drickamer Cell. Manufacturer: Okaya & Co., Ltd., Japan. Intended Use: See notice at 66 FR 39490, July 31, 2001. Comments: None received. Decision: Approved. No instrument of equivalent scientific value to the foreign instrument, for such purposes as it is intended to be used, is being manufactured in the United States. Reasons: The foreign instrument provides: (1) a revolving Drickamer cell with pressures to 30 GPa, temperature to 2000° K and rotational rate from 0.00001 to 0.01 rpm and (2) a sliding guide block type multi-anvil apparatus capable of 1000 ton pressure. A university research laboratory advised August 24, 2001 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 01-22067 Filed 8-30-01; 8:45 am]

BILLING CODE 3510-DS-P